ENVIRONMENTAL PROTECTION AGENCY

[OPPT-2002-0022; FRL-7292-9]

Access to Confidential Business Information by Centerscope Technologies and Titan Systems Corporation

AGENCY: Environmental Protection Agency (EPA).

ACTION: Notice.

SUMMARY: The purpose of this notice is to inform the public of several corporate mergers/acquisitions involving contractors cleared for Toxic Substances Control Act Confidential Business Information (CBI) access.

FOR FURTHER INFORMATION CONTACT: Barbara A. Cunningham, Acting Director, Environmental Assistance Division (7408M), Office of Pollution Prevention and Toxics, Environmental Protection Agency, 1200 Pennsylvania Ave., NW., Washington, DC 20460; telephone number: (202) 554-1404; e-mail address: TSCA-Hotline@epa.gov.

SUPPLEMENTARY INFORMATION:

I. General Information

A. Does this Notice Apply to Me?

This action is directed to the public in general. This action may, however, be of interest to those persons who are or may be required to conduct testing of chemical substances under the Toxic Substances Control Act (TSCA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPPT-2002-0022. The official public docket consists of the documents specifically referenced in this action, any public comments received, and other information related to this action. Although a part of the official docket, the public docket does not include CBI or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

Under contract number 68-W-98-232, Centerscope Technologies, of 8601 Georgia Avenue, Suite 700, Silver Spring, MD, will assist the Office of Pollution Prevention and Toxics (OPPT) in processing 12(b) export notices submitted under sections 4, 5, 6, 7, and 12 of TSCA CBI and to issue notification letters to foreign governments.

Under contract number 68-W-98-045, TSC, of 3033 Science Park Road, San Diego, CA is assisting the OPPT in conducting a system analysis and provide data base maintenance support to the Confidential Business Information Center (CBIC) document tracking system.

In accordance with 40 CFR 2.306(j), EPA has determined that under EPA contract number 68-W-98-232, Centerscope Technologies requires access to CBI submitted to EPA under sections 4, 5, 6, 7, and 12 of TSCA, to perform successfully the duties specified under the contract. Also, in accordance with 40 CFR 2.306(j), EPA has determined that under EPA contract number 68-W-98-045, TSC requires access to CBI submitted to EPA under all sections of TSCA, to perform successfully the duties specified under the contract.

Centerscope Technologies personnel have been given access to information submitted to EPA under sections 4, 5, 6, 7, and 12 of TSCA. Some of the information may be claimed or determined to be CBI. TSC personnel were given access to information submitted to EPA under all sections of TSCA. Some of the information has been claimed or determined to be CBI.

EPA is issuing this notice to inform all submitters of information under sections 4, 5, 6, 7, and 12 of TSCA, that the Agency is providing Centerscope Technologies access to these CBI materials on a need-to-know basis only. EPA is also issuing a notice to inform all submitters of information under all sections of TSCA, that the Agency provides TSC with access to these CBI materials on a need-to-know basis only. All access to TSCA CBI under these contracts is taking place at EPA Headquarters.

Centerscope Technologies and TSC are required to adhere to all provisions of the EPA's TSCA Confidential Business Information Security Manual.

Clearance for Centerscope Technologies and TSC to have access to TSCA CBI under these contracts may continue until March 31, 2003, and January 31, 2003, respectively.

Centerscope Technologies and TSC personnel are required to sign nondisclosure agreements and are briefed on appropriate security procedures before they are permitted to have access to TSCA CBI.

The remainder of this unit discusses the mergers/acquisitions.

1. EPA's contractor, Optimus Corporation (Optimus), in a contract first awarded in 1998, operates the TSCA Hotline and processes export notices under section 12(b) of the statute. Garcia Consulting Incorporated (GCI) was the original subcontractor for the 12(b) function. Both entities and their employees were duly cleared for TSCA CBI.

On January 3, 2000, Stanley Associates, Inc. (Stanley), of Alexandria, VA, acquired GCI as a wholly-owned subsidiary. The company became GCI/Stanley.

On March 31, 2002, the contract between Optimus (the prime) and GCI/Stanley (the subcontractor) expired. On April 1, 2002, Optimus contracted with Centerscope Technologies (Centerscope), a corporation which shares ownership and management with Optimus, to perform the same functions as GCI/Stanley.

Centerscope was granted access to TSCA CBI through the grant of a waiver dated July 3, 2002. This waiver was necessary to allow Centerscope Technologies to assist OPPT in processing 12(b) export notices submitted under sections 4, 5, 6, 7, and 12 of TSCA and to issue notification letters to foreign governments.

2. EPA's contractor, Titan Systems Corporation (TSC), of San Diego, CA, operates the TSCA Confidential Business Information Center at EPA Headquarters in Washington, DC. The contract for performing this function was first awarded to Computer Based Systems, Inc. (CBSI), of Fairfax, VA, on March 17, 1998. At the time of award, CBSI was a wholly owned subsidiary of AverStar, Inc. (AverStar). On June 26, 2000, Titan Systems, Inc. (Titan) acquired AverStar. On October 4, 2000, CBSI changed its corporate identity to reflect the new ownership—becoming “Titan Systems Corporation—CBSI Division.”

TSC was granted access to CBI under all sections of TSCA through the grant of a waiver dated March 26, 1998. This waiver was necessary to allow TSC to assist OPPT in conducting a system analysis and to provide data base maintenance support to the CBIC document tracking system.

At all times during each of these corporate acquisitions or mergers described above, all contractor and subcontractor employees were trained and cleared for access to TSCA CBI. In addition, all employees had signed and remained subject to the standard non-disclosure agreements required of all such persons working with TSCA CBI.

List of Subjects

Environmental protection, Confidential business information.

Dated: February 27, 2003.
Allan S. Abramson,
Director, Information Management Division, Office of Pollution Prevention and Toxics.

[FR Doc. 03-5480 Filed 3-11-03; 8:45 am]

BILLING CODE 6560-50-S